DEPARTMENT OF COMMERCE

International Trade Administration

University of Virginia, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3705, U.S. Department of Commerce, 14th and Constitution Avenue, NW., Washington, DC.

Docket Number: 09-029. Applicant: University of Virginia, Charlottesville, VA 22908. Instrument: Electron Microscope. Manufacturer: FEI Company, the Netherlands. Intended Use: See notice at 74 FR 30046, June 24, 2009.

Docket Number: 09-030. Applicant: University of Texas at El Paso, El Paso, TX 79968. Instrument: Electron Microscope. Manufacturer: Hitachi High-Technologies Corporation, Japan. Intended Use: See notice at 74 FR 30046, June 24, 2009.

Docket Number: 09-031. Applicant: University of Toledo, Toledo, OH 43606. Instrument: Electron Microscope. Manufacturer: FEI Company, Czech Republic. Intended Use: See notice at 74 FR 30046, June 24, 2009.

Docket Number: 09-033. Applicant: Case Western Reserve University, Cleveland, OH 44106. Instrument: Electron Microscope. Manufacturer: FEI, the Netherlands. Intended Use: See notice at 74 FR 30046, June 24, 2009.

Docket Number: 09-036. Applicant: University of Texas Health Science Center at Houston, Houston, TX 77030. Instrument: Electron Microscope. Manufacturer: JEOL, Japan. Intended Use: See notice at 74 FR 30046, June 24, 2009.

Docket Number: 09-037. Applicant: National Institutes of Health, Hamilton, MT 59840. Instrument: Electron Microscope. Manufacturer: FEI Company, Czech Republic. Intended Use: See notice at 74 FR 30046, June 24, 2009.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: July 16, 2009.
Christopher Cassel,
Acting Director, Subsidies Enforcement Office, Import Administration.

[FR Doc. E9-17422 Filed 7-21-09; 8:45 am]

BILLING CODE 3510-DS-P